NUCLEAR REGULATORY COMMISSION

[Docket No. 50-443]

Seabrook Station, Unit No. 1; Correction to Notice of Consideration of Issuance of Amendment to Facility Operating License, Proposed No Significant Hazards Consideration Determination, and Opportunity for a Hearing

AGENCY: Nuclear Regulatory Commission.

ACTION: Notice of Issuance; correction.

SUMMARY: This document corrects a notice appearing in the Federal Register on March 19, 2008 (73 FR 14850), that incorrectly referenced the date of the submittal for the amendment request. This action is necessary to correct an erroneous date.

FOR FURTHER INFORMATION CONTACT: G. Edward Miller, Office of Nuclear Reactor Regulation, U.S. Nuclear Regulatory Commission, Washington, DC 20555-0001; telephone (301) 415-2481, e-mail: GXM@nrc.gov.

SUPPLEMENTARY INFORMATION: On page 14852, in the second column, in the second complete paragraph, fourth line, it is corrected to read from “February 16, 2007” to “March 7, 2008”.

Dated in Rockville, Maryland, this 20th day of March 2008.
For the Nuclear Regulatory Commission.
G. Edward Miller,
Project Manager, Plant Licensing Branch 1-2, Division of Operating Reactor Licensing, Office of Nuclear Reactor Regulation.

[FR Doc. E8-6237 Filed 3-26-08; 8:45 am]

BILLING CODE 7590-01-P